DEPARTMENT OF JUSTICE

Immigration and Naturalization Service

8 CFR Parts 100, 103, 236, 245a, 274a and 299

[INS No. 2115-01; AG Order No. 2588-2002]

RIN 1115-AG06

Adjustment of Status Under Legal Immigration Family Equity (LIFE) Act Legalization Provisions and LIFE Act Amendments Family Unity Provisions; Corrections

AGENCY: Immigration and Naturalization Service, Justice.

ACTION: Final rule: Corrections.

SUMMARY: The Department of Justice published in the Federal Register of June 4, 2002 (67 FR 38341), a final rule which amended the Immigration and Naturalization Service (Service) regulations to provide definitive regulations for all applicants under section 1104 the Legal Immigration Family Equity (LIFE) Act, and section 1504 of the LIFE Act Amendments. The final rule contains technical errors that are corrected in this document.

EFFECTIVE DATES: November 1, 2002.

FOR FURTHER INFORMATION CONTACT: Elizabeth N. Lee or Suzy Nguyen, Assistant Directors, Residence and Status Branch, Office of Adjudications, Immigration and Naturalization Service, 425 I Street NW., Room 3040, Washington, DC 20536, telephone (202) 514-3228.

SUPPLEMENTARY INFORMATION:

Need for Correction

As published in the Federal Register on June 4, 2002 (67 FR 38341), the final rule amending parts 100, 103, 236, 245a, 274a and 299 contains technical errors that are in need of correction.

Correction of Publication

Accordingly, the publication on June 4, 2002 (67 FR 38341), of the final rule that was the subject of FR Doc. 02-13918 is corrected as follows:

PART 245a—ADJUSTMENT OF STATUS TO THAT OF PERSONS ADMITTED FOR LAWFUL TEMPORARY OR PERMANENT RESIDENT STATUS UNDER SECTION 245A OF THE IMMIGRATION AND NATIONALITY ACT

§ 245a.10 [Corrected]

1. On page 38350, in the second column, amendment 3a should be revised to read: “Revising the introductory text for the definition ‘eligible alien’; and by”

PART 299—IMMIGRATION FORMS

§ 299.1 [Corrected]

2. On page 38352, in the third column, in the table for § 299.1 the edition date for Form I-485 Supplement D should read: “06-05-02”

Dated: October 21, 2002.
James W. Ziglar,
Commissioner, Immigration and Naturalization Service.

[FR Doc. 02-27798 Filed 10-31-02; 8:45 am]

BILLING CODE 4410-10-P